DEPARTMENT OF ENERGY

Federal Energy Regulatory Commission

Sunshine Act Meetings

The following notice of meeting is published pursuant to section 3(a) of the government in the Sunshine Act (Pub. L. 94-409), 5 U.S.C. 552b:

Agency Holding Meeting: Federal Energy Regulatory Commission.

DATE AND TIME: December 19, 2023, 10:00 a.m.

PLACE: Room 2C, 888 First Street NE, Washington, DC 20426.

STATUS: Open to the public.

MATTERS TO BE CONSIDERED: Agenda.

* NOTE—Items listed on the agenda may be deleted without further notice.

CONTACT PERSON FOR MORE INFORMATION: Kimberly D. Bose, Secretary, Telephone (202) 502-8400.

For a recorded message listing items stricken from or added to the meeting, call (202) 502-8627.

This is a list of matters to be considered by the Commission. It does not include a listing of all documents relevant to the items on the agenda. All public documents, however, may be viewed online at the Commission's website at https://elibrary.ferc.gov/eLibrary/search using the eLibrary link.

1107th—Meeting Open Meeting
[December 19, 2023 10:00 a.m.]
Item No. | Docket No. | Company
ADMINISTRATIVE
A-1 | AD24-1-000 | Agency Administrative Matters.
A-2 | AD24-2-000 | Customer Matters, Reliability, Security and Market Operations.
A-3 | AD24-5-000 | FERC-NERC-Regional Entity Joint Blackstart Availability Study in Texas.
ELECTRIC
E-1 | AD24-6-000 | Federal Power Act Section 203 Blanket Authorizations for Investment Companies.
E-2 | ER23-2657-001, ER23-2658-001, ER23-2659-001, ER23-2660-001, ER23-2661-001 | Emera Energy LNG, LLC, Emera Energy Services Subsidiary No. 11 LLC, Emera Energy Services Subsidiary No. 12 LLC, Emera Energy Services Subsidiary No. 13 LLC, Emera Energy Services Subsidiary No. 15 LLC
E-3 | EL02-60-007, EL02-60-013, EL02-62-006, EL02-62-012, (Consolidated) | Public Utilities Commission of the State of California v. Sellers of Long-Term Contracts to the California Department of Water Resources, California Electricity Oversight Board v. Sellers of Long-Term Contracts to the California Department of Water Resources
E-4 | ER09-1256-000, ER09-1256-003, ER09-1256-005, ER09-1256-007, ER12-2708-000, ER12-2708-007, ER12-2708-009, ER12-2708-010 | Potomac-Appalachian Transmission Highline, LLC and PJM Interconnection, L.L.C.
E-5 | ER22-2339-001 | Southwest Power Pool, Inc.
E-6 | EL24-4-000 | Greenbacker Renewable Energy Company LLC, Greenbacker Renewable Energy Company II, LLC.
E-7 | ER24-163-000 | PJM Interconnection, L.L.C.
E-8 | ER21-2818-000, EL22-4-000, (Consolidated), EL21-75-000, EL21-53-000, (Unconsolidated) | Tri-State Generation and Transmission Association, Inc., Wheat Belt Public Power District, La Plata Electric Association, Inc., Northwest Rural Public Power District, San Isabel Electric Association, Inc., San Miguel Power Association, Springer Electric Cooperative, Inc., and United Power Inc. v. Tri-State Generation and Transmission Association, Inc.
E-9 | ER23-2183-000 | Southwest Power Pool, Inc.
E-10 | ER22-1846-004 | Southwest Power Pool, Inc.
E-11 | EL23-28-001, ER23-1195-002 | Solar Energy Industries Association v. Midcontinent Independent System Operator, Inc., Midcontinent Independent System Operator, Inc.
E-12 | EL23-106-000 | Summit Ridge Energy, LLC and Osaka Gas USA Corporation.
E-13 | ER22-2931-000, EL24-26-000 | PJM Interconnection L.L.C.
E-14 | EL23-63-000 | Energy Harbor LLC v. PJM Interconnection, L.L.C.
E-15 | ER23-2975-000, EL23-53-000, EL23-53-002, EL23-54-000, EL23-54-002, EL23-55-000, EL23-55-002, EL23-56-000, EL23-56-002, EL23-57-000, EL23-57-001, EL23-57-004, EL23-57-006, EL23-58-000, EL23-58-002, EL23-59-000, EL23-59-002, EL23-60-000, EL23-60-002, EL23-61-000, EL23-61-002, EL23-63-000, EL23-63-002, EL23-66-000, EL23-66-002, EL23-67-000, EL23-67-002, EL23-74-000, EL23-74-002, EL23-75-000, EL23-75-002, EL23-77-000, EL23-77-002 | PJM Interconnection L.L.C., Essential Power OPP, LLC, Essential Power Rock Springs, LLC and Lakewood Cogeneration, L.P. v. PJM Interconnection, L.L.C., Aurora Generation, LLC, LSP University Park, LLC, Rockford Power, LLC, Rockford Power II, LLC, University Park Energy, LLC, Elwood Energy LLC, Jackson Generation, LLC, Lee County Generating Station, LLC, and Lincoln Generating Facility, LLC v. PJM Interconnection. L.L.C., Coalition of PJM Capacity Resources v. PJM Interconnection, L.L.C., Talen Energy Marketing LLC v. PJM Interconnection, L.L.C., Lee County Generating Station, LLC v. PJM Interconnection, L.L.C., SunEnergy 1, LLC v. PJM Interconnection, L.L.C., Lincoln Generating Facility, LLC v. PJM Interconnection, Parkway Generation Keys Energy Center LLC v. PJM Interconnection, L.L.C., Old Dominion Electric Cooperative v. PJM Interconnection, L.L.C., Energy Harbor LLC v. PJM Interconnection, L.L.C., Calpine Corporation v. PJM Interconnection, L.L.C., Invenergy Nelson LLC v. PJM Interconnection, L.L.C., East Kentucky Power Cooperative, Inc. v. PJM Interconnection, L.L.C., CPV Maryland, LLC and Competitive Power Ventures Holding, LP v. PJM Interconnection, L.L.C., Parkway Generation Operating LLC and Parkway Generation Sewaren Urban Renewal Entity LLC v. PJM Interconnection, L.L.C.
E-16 | EL23-53-000, EL23-53-003, EL23-54-000, EL23-54-003, EL23-55-000, EL23-55-003, EL23-56-000, EL23-56-003, EL23-57-000, EL23-57-005, EL23-58-000, EL23-58-003, EL23-59-000, EL23-59-003, EL23-60-000, EL23-60-003, EL23-61-000, EL23-61-003, EL23-63-000, EL23-63-003, EL23-66-000, EL23-66-003, EL23-67-000, EL23-67-003, EL23-74-000, EL23-74-003, EL23-75-000, EL23-75-003, EL23-77-000, EL23-77-003, (not consolidated). | Essential Power OPP, LLC, Essential Power Rock Springs, LLC, and Lakewood Cogeneration, L.P. v. PJM Interconnection, L.L.C., Aurora Generation, LLC, LSP University Park, LLC, Rockford Power, LLC, Rockford Power II, LLC, University Park Energy, LLC, Elwood Energy LLC, Jackson Generation, LLC, Lee County Generating Station, LLC, and Lincoln Generating Facility, LLC v. PJM Interconnection, L.L.C., Coalition of PJM Capacity Resources v. PJM Interconnection, L.L.C., Talen Energy Marketing, LLC v. PJM Interconnection, L.L.C., Lee County Generating Station, LLC v. PJM Interconnection, L.L.C., SunEnergy1, LLC v. PJM Interconnection, L.L.C., Lincoln Generating Facility, LLC v. PJM Interconnection, L.L.C., Parkway Generation Keys Energy Center LLC, v. PJM Interconnection, L.L.C., Old Dominion Electric Cooperative v. PJM Interconnection, L.L.C., Energy Harbor LLC, v.PJM Interconnection, L.L.C., Calpine Corporation, v. PJM Interconnection, L.L.C., Invenergy Nelson LLC v. PJM Interconnection, L.L.C., East Kentucky Power Cooperative, Inc. v. PJM Interconnection, L.L.C., CPV Maryland, LLC and Competitive, Power Ventures Holdings, LP v. PJM Interconnection, L.L.C., Parkway Generation Operating LLC and Parkway Generation Sewaren Urban Renewal Entity LLC v. PJM Interconnection, L.L.C.
GAS
G-1 | OR14-6-003 | BP Pipelines (Alaska) Inc., ConocoPhillips Transportation Alaska, Inc., and ExxonMobil Pipeline Company.
HYDRO
H-1 | P-15287-000 | HGE Energy Storage 3 LLC.
H-2 | P-2082-071 | PacifiCorp.
CERTIFICATES
C-1 | CP23-15-000 | ANR Pipeline Company.
C-2 | CP16-10-012 | Mountain Valley Pipeline, LLC.
C-3 | CP19-14-002 | Mountain Valley Pipeline, LLC.
C-4 | CP20-55-001 | Port Arthur LNG Phase II, LLC, and PALNG Common Facilities Company, LLC.
C-5 | CP22-16-000 | Georgia-Pacific Consumer Operations LLC.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: December 12, 2023
Debbie-Anne A. Reese,
Deputy Secretary.

[FR Doc. 2023-27886 Filed 12-15-23; 11:15 am]

BILLING CODE 6717-01-P